DEPARTMENT OF ENERGY

Federal Energy Regulatory Commission

Notice of License Amendment Request and Soliciting Comments, Motions To Intervene, and Protests

August 14, 2002.

Take notice that the following application has been filed with the Commission and is available for public inspection:

a. Application Type: Request for License Amendment.

b. Project No: 2150-027.

c. Date Filed: June 14, 2002.

d. Applicant: Puget Sound Energy, Inc.

e. Name of Project: Baker River Project.

f. Location: The project is located on the Baker River, a tributary of the Skagit River, in Whatcom and Skagit Counties, near Concrete, WA. The project is on Federal Lands in the Mt. Baker-Snoqualmie National Forest.

g. Filed Pursuant to: 18 CFR 4.200.

h. Applicant Contact: Mr. William A. Gaines, Puget Sound Energy, Inc., 411 108th Avenue NE, P.O. Box 97034, Bellevue, WA 98009-9734, (425) 454-6363.

i. FERC Contact: Any questions on this notice should be addressed to Mr. Erich Gaedeke at (202) 502-8777, or e-mail address: erich.gaedeke@ferc.gov.

j. Deadline for filing comments and or motions: September 13, 2002.

All documents (original and seven copies) should be filed with: Magalie R. Salas, Secretary, Federal Energy Regulatory Commission, 888 First Street, NE., Washington DC 20426. Please include the project number (P-2150-027) on any comments or motions filed.

k. Description of Request: Puget Sound Energy, Inc. (licensee) filed an application to amend its project license for the Baker River Project. The licensee requests Commission approval to modify article 33 of the project license, the alternative Enhanced Flood Control/Coordinated Flow Management Plan, to modify project operations for the protection and enhancement of Endangered Species Act listed fall chinook salmon. The licensee's proposal has been developed in consultation with the National Marine Fisheries Service and Fish and Wildlife Service.

l. Locations of the Application: A copy of the application is available for inspection and reproduction at the Commission's Public Reference Room, located at 888 First Street, NE., Room 2A, Washington, DC 20426, or by calling (202) 208-1371. This filing may also be viewed on the web at http://www.ferc.gov using the “FERRIS” link. Enter the docket number excluding the last three digits in the docket number to access the document. For assistance call (202) 502-8222 or for TTY (202) 208-1659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link. The Commission strongly encourages electronic filings.

Linwood A. Watson, Jr.,
Deputy Secretary.

[FR Doc. 02-21151 Filed 8-19-02; 8:45 am]

BILLING CODE 6717-01-P